FEDERAL ELECTION COMMISSION

[Notice 2021-04]

Filing Dates for the Texas Special Election in the 6th Congressional District Special Election

AGENCY: Federal Election Commission.

ACTION: Notice of filing dates for special election.

SUMMARY: Texas has scheduled a Special General Election on May 1, 2021, to fill its U.S. House of Representatives seat in the 6th Congressional District of the late Representative Ron Wright. There are two possible elections, but only one may be necessary. Under Texas law, all qualified candidates, regardless of party affiliation, will appear on the ballot. The majority winner of the special election is declared elected. Should no candidate achieve a majority vote, the Governor will then set the date for a Special Runoff Election that will include only the top two vote-getters. Committees participating in the Texas special election are required to file pre- and post-election reports.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Texas Special General Election shall file a 12-day Pre-General Report on April 19, 2021. If there is a majority winner, committees must also file a Post-General Report on May 31, 2021. (See charts below for the closing date for each report.)

Note that these reports are in addition to the campaign committee's regular quarterly filings. (See charts below for the closing date for each report).

Unauthorized Committees (PACs and Party Committees)

Political committees not filing monthly in 2021 are subject to special election reporting if they make previously undisclosed contributions or expenditures in connection with the Texas Special General by the close of books for the applicable report(s). (See charts below for the closing date for each report.)

Committees filing monthly that make contributions or expenditures in connection with the Texas Special General will continue to file according to the monthly reporting schedule.

Additional disclosure information for the Texas special elections may be found on the FEC website at https://www.fec.gov/help-candidates-and-committees/dates-and-deadlines/.

Possible Special Runoff Election

In the event that no candidate receives a majority of the votes in the Special General Election, a Special Runoff Election will be held. The Commission will publish a future notice giving the filing dates for that election if it becomes necessary.

Disclosure of Lobbyist Bundling Activity

Principal campaign committees, party committees and leadership PACs that are otherwise required to file reports in connection with the special election must simultaneously file FEC Form 3L if they receive two or more bundled contributions from lobbyists/registrants or lobbyist/registrant PACs that aggregate in excess of $19,300 during the special election reporting period. (See charts below for closing date of each period.) 11 CFR 104.22(a)(5)(v), (b), 110.17(e)(2), (f).

Calendar of Reporting Dates for Texas Special Election
Report | Close of books ¹ | Reg./cert. & overnight mailing deadline | Filing deadline
IF ONLY THE SPECIAL GENERAL IS HELD (05/01/2021), CAMPAIGN COMMITTEES INVOLVED MUST FILE
April Quarterly | —WAIVED—
Pre-General | 04/11/2021 | 04/16/2021 | 04/19/2021
Post-General | 05/21/2021 | 05/31/2021 | ² 05/31/2021
July Quarterly | 06/30/2021 | 07/15/2021 | 07/15/2021
IF ONLY THE SPECIAL GENERAL (05/01/2021) IS HELD, PACs AND PARTY COMMITTEES NOT FILING MONTHLY INVOLVED MUST FILE
Pre-General | 04/11/2021 | 04/16/2021 | 04/19/2021
Post-General | 05/21/2021 | 05/31/2021 | ² 05/31/2021
Mid-Year | 06/30/2021 | 07/31/2021 | ² 07/31/2021
IF TWO ELECTIONS ARE HELD, CAMPAIGN COMMITTEES INVOLVED ONLY IN THE SPECIAL GENERAL (05/01/2021) MUST FILE
April Quarterly | —WAIVED—
Pre-General | 04/11/2021 | 04/16/2021 | 04/19/2021
July Quarterly | 06/30/2021 | 07/15/2021 | 07/15/2021
IF TWO ELECTIONS ARE HELD, PACS AND PARTY COMMITTEES NOT FILING MONTHLY INVOLVED IN ONLY THE SPECIAL GENERAL (05/01/2021) MUST FILE
Pre-General | 04/11/2021 | 04/16/2021 | 04/19/2021
Mid-Year | 06/30/2021 | 07/31/2021 | ² 07/31/2021
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

Dated: February 26, 2021.
On behalf of the Commission,
Shana M. Broussard,
Chair, Federal Election Commission.

[FR Doc. 2021-04445 Filed 3-3-21; 8:45 am]

BILLING CODE 6715-01-P